NUCLEAR REGULATORY COMMISSION

[Docket No. 030-29288]

Availability of Environmental Assessment and Finding of No Significant Impact Related to the License Renewal Request of the Pennsylvania Department of Environmental Protection, Bureau of Radiation Protection, for the Quehanna Site in Karthaus, Pennsylvania

AGENCY: Nuclear Regulatory Commission.

ACTION: Notice of availability Environmental Assessment and Finding of No Significant Impact.

FOR FURTHER INFORMATION CONTACT: James Kottan, Project Manager, Decommissioning and Laboratory Branch, Division of Nuclear Materials Safety, Region I, 475 Allendale Road, King of Prussia, Pennsylvania 19406, telephone (610) 337-5214, fax (610) 337-5269 and/or e-mail jjk@nrc.gov.

SUPPLEMENTARY INFORMATION:

I. Introduction

The U.S. Nuclear Regulatory Commission (NRC) is considering amending Byproduct Materials License Number 37-17860-02 issued to the Pennsylvania Department of Environmental Protection, Bureau of Radiation Protection (PADEP, BRP) to authorize the decommissioning of the Quehanna Facility located at 115 Reactor Road, Karthaus, Clearfield County, Pennsylvania. In support of this action, the NRC staff has prepared an Environmental Assessment (EA) in accordance with the requirements of 10 CFR part 51.

In a letter dated February 26, 2003, PADEP, BRP submitted a request to renew Byproduct Materials License Number 37-17860-02, including submittal of a revised decommissioning plan (DP), to obtain authorization to decommission the Quehanna Facility. In subsequent letters dated June 4, 2003, and June 18, 2003, PADEP, BRP provided responses to an NRC request for additional information regarding the DP. The request, currently before the NRC, involves removing the hot cell complex and embedded drain lines at the facility and decontaminating the remaining portions of the facility to meet the unrestricted release criteria.

Based upon the EA, the NRC has concluded that a Finding of No Significant Impact (FONSI) is appropriate.

II. Summary of EA

An EA has been performed to evaluate the environmental impacts of PADEP, BRP's request for NRC's approval for PADEP, and BRP to decommission the Quehanna Facility. In accordance with the conditions currently described in its license, the licensee has been performing remediation of residual radioactivity from internal building equipment and components. The radioactive contamination at PADEP, BRP's Karthaus, Pennsylvania site consists of building and equipment surfaces contaminated with strontium-90 (Sr-90) from licensed operations that occurred from the late 1950s until 1967.

The hot cell complex at this facility will be removed in order to expose the basement below for decontamination and embedded and buried drain lines will be removed. The remaining structures will be decontaminated as necessary to meet the unrestricted release criteria, and left in place. PADEP, BRP plans to use dismantlement and deconstruction techniques, such as cutting and drilling in taking the hot cells down. Coring and drilling equipment, back hoes, and mobile cranes will be used to remove/dismantle and to size reduce concrete or concrete masonry unit (CMU) structures. Steel reinforcement bars will be torch-cut, sheared, or saw-cut as required for dismantlement, leveling, or size reduction purposes. Radioactive waste generated as a result of decommissioning activities will be transported offsite by truck for disposal. PADEP, BRP estimates that approximately 300 cubic yards of radioactive waste will leave the site over the duration of the decommissioning project. The duration of the proposed action will be approximately 1.5 years.

The licensee's February 26, 2003, license renewal request was noticed in the Federal Register on August 4, 2003 (68 FR 45859). This Federal Register notice also provided an opportunity for a hearing on this licensing action.

III. Finding of No Significant Impact

Pursuant to 10 CFR part 51, NRC has prepared the EA, summarized above. On the basis of the EA, the NRC has concluded that this licensing action would not have any significant effect on the quality of the human environment, and, therefore, an environmental impact statement is not required. NRC believes that the approval of the license renewal will not cause any significant impacts on the human environment and is protective of human health. The NRC staff has concluded that exposures to workers will be low and well within the limits specified in 10 CFR part 20. Decommissioning activities as proposed by the renewal will result in a reduction of radioactive material at the PADEP, BRP site in Karthaus, which will reduce the long term potential for release of radiological contamination to the environment. No radiologically contaminated effluents are expected during hot cell dismantlement and deconstruction and decontamination activities. No radiation exposure to any member of the public is expected, and public exposure will therefore also be less than the applicable public exposure limits of 10 CFR part 20.

IV. Further Information

The EA and the documents related to this proposed action, including the application for the license amendment and supporting documentation, are available for inspection at NRC's Public Electronic Reading Room at http://www.nrc.gov/reading-rm/adams.html (Accession Number: ML030800038). These documents are also available for inspection and copying for a fee at the Region I Office, 475 Allendale Road, King of Prussia, Pennsylvania, 19406.

Dated at King of Prussia, Pennsylvania, this 17th day of September, 2003.
For the Nuclear Regulatory Commission.
Ronald R. Bellamy,
Chief, Decommissioning and Laboratory Branch, Division of Nuclear Materials Safety, Region I.

[FR Doc. 03-24475 Filed 9-26-03; 8:45 am]

BILLING CODE 7590-01-P